DEPARTMENT OF VETERANS AFFAIRS

[OMB Control No. 2900-0797]

Agency Information Collection Activity: Principles of Excellence Complaint Feedback Tool

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before February 18, 2022.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0797” in any correspondence. During the comment period, comments may be viewed online through FDMS.

FOR FURTHER INFORMATION CONTACT: Maribel Aponte, Office of Enterprise and Integration, Data Governance Analytics (008), 1717 H Street NW, Washington, DC 20006, (202) 266-4688 or email maribel.aponte@va.gov. Please refer to “OMB Control No. 2900-0797” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Executive Order 13607.

Title: Principles of Excellence Complaint Feedback Tool.

OMB Control Number: 2900-0797.

Type of Review: Revision of a currently approved collection.

Abstract: The respondent submits a complaint about an educational institution online through either the GI Bill website or the eBenefit portal. The information gathered can only be obtained from the individual respondents. Valid complaints will be accepted from third parties.

The Feedback Tool process for both DoD's and VA's complaint system shares common data elements, but have some modifications specific to each agencies' complaint handling process:

VA:

○ Institution/Employer: There are over 36,000 educational institutions that are approved for VA education benefits, while DoD has less than 7000.

○ Anonymous Complaints: PoE Complaint System allows for a user to file anonymous complaints. Based on working group discussions with CFPB and FTC, VA believes that allowing anonymous complaints will garner more ground truth on what is happening with Veterans using their education benefits at different schools.

○ Required fields: As a result of allowing anonymous complaints, many of the fields that DoD requires a user to fill will not be required by VA.

DoD:

○ Education Centers: DoD requires education center information that does not fall within the purview of VA.

○ Military Branch/Rank: DoD requires a user to select a service affiliation and pay grade.

Affected Public: Individuals and Households.

Estimated Annual Burden: 228 hours.

Estimated Average Burden per Respondent: 30 and 60 minutes respectively based on level of complexity.

Frequency of Response: Occasionally.

Estimated Number of Respondents: 912.

By direction of the Secretary.
Maribel Aponte,
VA PRA Clearance Officer, Office of Enterprise and Integration/Data Governance Analytics, Department of Veterans Affairs.

[FR Doc. 2021-27490 Filed 12-17-21; 8:45 am]

BILLING CODE 8320-01-P